DEPARTMENT OF DEFENSE

Department of the Navy

Notice of Intent To Prepare an Environmental Impact Statement for Introduction of the Advanced Amphibious Assault Vehicle to First Marine Expeditionary Force, Marine Corps Base, Camp Pendleton, California

AGENCY: Department of the Navy, DOD.

ACTION: Notice.

SUMMARY: Pursuant to Section 102(2)(c) of the National Environmental Policy Act of 1969, as implemented by the Council on Environmental Quality regulations (40 CFR parts 1500-1508), the Department of the Navy intends to prepare an Environmental Impact Statement (EIS) to evaluate the environmental effects of introducing the Advanced Amphibious Assault Vehicle (AAAV) to First Marine Expeditionary Force, and replacing existing support facilities for maintenance and training of their crews at Marine Corps Base (MCB) Camp Pendleton.

DATES: Scoping comments are due by September 30, 2000.

ADDRESSES: The Marine Corps will hold public scoping meetings on August 29, 2000, from 7:00 pm to 10:30 pm, at the City of Oceanside Civic Center (Community Room) located at 300 North Coast Highway, Oceanside, California; on August 31, 2000, from 7:00 pm to 10:30 pm, at the City of San Clemente Community Center (Ole Hanson Room) located at 100 North Seville, San Clemente, California; and on September 7, 2000, from 5:00 pm to 8:30 pm, at the Coronado Public Library (Winn Room) located at 640 Orange Avenue, Coronado, California. The public can attend the meetings at Oceanside and San Clemente anytime between 7:00 and 10:30 pm, and at Coronado anytime between 5:00 pm and 8:30 pm to provide their comments.

FOR FURTHER INFORMATION CONTACT: Commander, Southwest Division, Naval Facilities Engineering Command, 1220 Pacific Highway, San Diego, CA 92132-5190 (Attn: Mrs. Jo Ellen Anderson, Telephone: 619-532-4142).

SUPPLEMENTARY INFORMATION: The AAAV represents a new technology in armored amphibious assault vehicles. It uses different propulsion systems when operating in the water and on land and will replace the aging Amphibious Assault Vehicle 7A1 currently used by the Marine Corps. The first AAAV is scheduled for delivery to the Marine Corps in 2005.

The AAAV mission will be to provide the principle means of land mobility, water mobility and fire support to Marine infantry units during operations in all terrain and climates. It will be capable of providing high-speed transport of embarked Marines from ships located beyond the horizon to inland objectives. It will operate in all climates and terrain, at night, on land, at sea and in all-weather conditions. The AAAV will function on land as an armored personnel carrier and as such the infantry carried inside will dismount to fight/engage.

It will be a tracked-amphibious vehicle possessing both land and water mobility and is designed to have an endurance of 250 miles after a high-speed water march of 25 nautical miles. The estimated weight of the AAAV is 38 tons and it will measure approximately 30 feet long, 12 feet wide, and 10 feet high. The vehicle mounts a 30mm Automatic Gun and a 7.62mm co-axial machine gun. The AAAV vehicle will be operated/maintained by a crew of 3 Marines and have a troop carrying capacity of up to 18 infantry Marines.

The Marine Corps intends to introduce the AAAV into the Fleet Marine Force in three phases, beginning with the First Marine Expeditionary Force. AAAV introduction to Second and Third Marine Expeditionary Forces would commence after introduction to the First Marine Expeditionary Force is complete.

The proposal being evaluated in this EIS is the replacement of existing Amphibious Assault Vehicle 7A1s with AAAVs in the First Marine Expeditionary Force, the replacement of the training facility used for the Amphibious Assault Vehicle 7A1, and renovation of the existing maintenance and testing facilities used for the Amphibious Assault Vehicle 7A1. Third Amphibious Assault Battalion would receive 169 AAAV vehicles, Amphibious Assault Schools Battalion would receive 35 AAAV vehicles, and Amphibious Vehicle Test Branch would receive 7 AAAV vehicles.

Introduction of the AAAV to First Marine Expeditionary Force at MCB Camp Pendleton would involve conducting training exercises on existing ranges, roads and trails within existing training areas of MCB Camp Pendleton, expanding the ocean training area outward (past 24 nautical miles) from the MCB Camp Pendleton beaches to conduct over-the-horizon training, and conducting exercises and operations using AAAVs at San Clemente Island, Naval Amphibious Base (NAB) Coronado, and Naval Radio Receiving Facility (NRRF) Imperial Beach. No sea to sea, or sea to shore, live firing will be conducted at MCB Camp Pendleton. However, sea-to-shore live firing exercises are proposed for the Shore Bombardment Area of San Clemente Island. Finally, administrative landings on NAB Coronado and NRRF Imperial Beach are proposed; no extensive land maneuvering or live-fire would be conducted.

Alternatives identified so far include no action, and construction, designation and operation of facilities and training areas on several locations at Camp Pendleton.

Environmental issues to be addressed in the EIS include: geological resources, biological resources, water resources, noise, air quality, land use compatibility, cultural resources, socioeconomic, environmental justice, public health and safety, transportation/circulation, aesthetics, utilities, hazardous materials, and solid waste.

The Marine Corps is initiating a scoping process for the purpose of determining the extent of issues to be addressed and identifying the significant issues related to this action. The Marine Corps will hold public scoping meetings on August 29, 2000, from 7:00 pm to 10:30 pm, at the City of Oceanside Civic Center (Community Room) located at 300 North Coast Highway, Oceanside, California; on August 31, 2000, from 7:00 pm to 10:30 pm, at the City of San Clemente Community Center (Ole Hanson Room) located at 100 North Seville, San Clemente, California; and on September 7, 2000, from 5:00 pm to 8:30 pm, at the Coronado Public Library (Winn Room), located at 640 Orange Avenue, Coronado, California. The public can attend the meetings at Oceanside and San Clemente anytime between 7:00 pm and 10:30 pm, and at Coronado anytime between 5:00 pm and 8:30 pm to provide their comments. These meetings will be advertised in area newspapers.

Marine Corps representatives will be available at these meetings to receive comments from the public regarding issues of concern to the public. Federal, state and local agencies, and interested individuals are encouraged to take this opportunity to identify environmental concerns that should be addressed during the preparation of the EIS. Agencies and the public are also invited and encouraged to provide written comment on scoping issues in addition to, or in lieu of, oral comments at the public meeting. To be most helpful, scoping comments should clearly describe specific issues or topics that the commentor believes the EIS, should address. Written statements and or questions regarding the scoping process should be mailed to: Commander, Southwest Division, Naval Facilities Engineering Command, 1220 Pacific Highway, San Diego, CA 92132-5190 (Attn: Mrs. Jo Ellen Anderson, telephone 619-532-4142). All comments must be received no later than September 30, 2000.

Dated: August 9, 2000
Duncan Holaday,
Deputy Assistant Secretary of the Navy (Installations and Facilities).

[FR Doc. 00-20680 Filed 8-14-00; 8:45 am]

BILLING CODE 3810-FF-P